SMALL BUSINESS ADMINISTRATION

[Disaster Declaration #17487 and #17488; New Mexico Disaster Number NM-00081]

Presidential Declaration Amendment of a Major Disaster for Public Assistance Only for the State of New Mexico

AGENCY: U.S. Small Business Administration.

ACTION: Amendment 1.

SUMMARY: This is an amendment of the Presidential declaration of a major disaster for Public Assistance Only for the State of New Mexico (FEMA-4652-DR), dated 06/08/2022.

Incident: Wildfires, Straight-line Winds, Flooding, Mudflows, and Debris Flows directly related to the Wildfires.

Incident Period: 04/05/2022 through 07/23/2022.

DATES: Issued on 07/27/2022.

Physical Loan Application Deadline Date: 08/08/2022.

Economic Injury (EIDL) Loan Application Deadline Date: 03/08/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of New Mexico, dated 06/08/2022, is hereby amended to expand the incident for this disaster to include flooding, mudflows, and debris flows directly related to the wildfires. This disaster declaration is also amended to establish the incident period for this disaster as beginning 04/05/2022 and continuing through 07/23/2022.

All other information in the original declaration remains unchanged.

(Catalog of Federal Domestic Assistance Number 59008)

Joshua Barnes,
Acting Associate Administrator for Disaster Assistance.

[FR Doc. 2022-16691 Filed 8-3-22; 8:45 am]

BILLING CODE 8026-09-P